DEPARTMENT OF ENERGY

Federal Energy Regulatory Commission

[Project No. 2055-109]

Idaho Power Company; Notice of Availability and Adoption of Final Environmental Assessment

Pending before the Federal Energy Regulatory Commission (Commission) is an application filed by Idaho Power Company (licensee) to permit a non-project use of project lands and waters for the purpose of permitting a water withdrawal from the C.J. Strike Hydroelectric Project FERC No. 2055. The water withdrawal would provide raw water to Mountain Home Airforce Base. In accordance with the National Environmental Policy Act of 1969 (NEPA), the Commission's regulations at 18 CFR part 380, and the Council on Environment Quality regulations for implementing NEPA at 40 CFR 1506.3(c), Commission staff have decided to adopt an Environmental Assessment (EA) produced by Bureau of Land Management (BLM) for the proposed intake facility, pumping station, and pipeline for the proposed project. In determining whether to adopt the EA, Commission staff independently reviewed the EA. The actions analyzed by BLM are substantially the same as those being proposed in the licensee's application, and therefore, Commission staff concludes that the EA adequately assesses the environmental impacts of the proposed action and can be adopted. Commission staff also agrees with the BLM's finding that the proposed water withdrawal is not a major federal action significantly affecting the quality of the human environment.

The licensee proposes to allow Idaho Water Resources Board to construct an intake facility and pumping station within the C.J. Strike Hydroelectric Project's boundary to withdraw water from the project reservoir. Most of the pipeline used to deliver the raw water to Mountain Home AirForce Base is outside of the project boundary on lands administered by BLM. The lands within the project boundary proposed for the location of the water withdrawal are also lands administered by BLM.

The BLM EA titled “Establishment of a Sustainable Water Supply for Mountain Home Airforce Base, Idaho”, can be viewed through links contained in Idaho Power Company's response to the Commission's additional information request, filed in the Commission's eLibrary system on May 8, 2024, under Docket P-2055. The licensee's filing also contains BLM's recent amendment to the EA and Statement of Adequacy as an attachment.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

For further information, contact Michael Calloway at 202-502-8041 or Michael.calloway@ferc.gov.

Dated: July 2, 2024.
Debbie-Anne A. Reese,
Acting Secretary.

[FR Doc. 2024-15077 Filed 7-9-24; 8:45 am]

BILLING CODE 6717-01-P